ENVIRONMENTAL PROTECTION AGENCY

[FRL-9978-49-OECA]

See the Item Specific Docket Numbers Provided in the Text; Proposed Information Collection Request; Comment Request; See Item Specific ICR Titles Provided in the Text

AGENCY: Environmental Protection Agency (EPA).

ACTION: Notice.

SUMMARY: The Environmental Protection Agency is planning to submit the below listed information collection requests (ICRs) (See item specific ICR title, EPA ICR Number and OMB Control Number provided in the text) to the Office of Management and Budget (OMB) for review and approval in accordance with the Paperwork Reduction Act. Before doing so, EPA is soliciting public comments on specific aspects of the proposed information collection as described below. These are proposed extensions of 73 currently approved ICRs. An Agency may not conduct or sponsor and a person is not required to respond to a collection of information unless it displays a currently valid OMB control number.

DATES: Comments must be submitted on or before July 30, 2018.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for these ICRs. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICRs as appropriate. The final ICR package will then be submitted to OMB for review and approval. At that time, EPA will issue another Federal Register notice to announce the submission of the ICRs to OMB and the opportunity to submit additional comments to OMB.

General Abstract: For all the listed ICRs in this notice, owners and operators of affected facilities are required to comply with reporting and record keeping requirements for the general provisions of 40 CFR part 60, subpart A or part 63, subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OECA-2014-0069; Title: NESHAP for Source Categories: Generic Maximum Achievable Control Technology Standards (40 CFR part 63, subpart YY) (Renewal); EPA ICR Number 1871.10; OMB Control Number 2060-0420; Expiration Date: March 31, 2019.

Respondents: Polycarbonates production, acrylic and modacrylic fibers production, acetal resins production, and hydrogen fluoride production facilities.

Respondent's obligation to respond: Mandatory (40 CFR part 63, subpart YY).

Estimated number of respondents: 7 (total).

Frequency of response: Initially, occasionally and semiannually.

Estimated annual burden: 3,240 hours.

Estimated annual cost: $317,000, includes $127,000 annualized capital or operation & maintenance (O&M) costs.

Changes in Estimates: There is no change in burden from the previous ICR.

(2) Docket ID Number: EPA-HQ-OECA-2014-0071; Title: NESHAP for Publicly-Owned Treatment Works (40 CFR part 63, subpart VVV) (Renewal); EPA ICR Number 1891.10; OMB Control Number 2060-0428; Expiration Date: March 31, 2019.

Respondents: POTW located at a major source of hazardous air pollutants (HAP).

Respondent's obligation to respond: Mandatory (40 CFR part 63, subpart VVV).

Estimated number of respondents: 13 (total).

Frequency of response: Initially and occasionally.

Estimated annual burden: 7 hours.

Estimated annual cost: $790, includes $0 annualized capital or O&M costs.

Changes in Estimates: There is no change in burden from the previous ICR.

(3) Docket ID Number: EPA-HQ-OECA-2014-0076; Title: NESHAP for the Surface Coating of Large Household and Commerical Appliances (40 CFR part 63, subpart NNNN) (Renewal); EPA ICR Number 1954.07; OMB Control Number 2060-0457; Expiration Date: March 31, 2019.

Respondents: Facilities that perform surface coating of large household and commercial appliances and related parts.

Respondent's obligation to respond: Mandatory (40 CFR part 63, subpart NNNN).

Estimated number of respondents: 114 (total).

Frequency of response: Initially, occasionally, and semiannually.

Estimated annual burden: 36,500 hours.

Estimated annual cost: $4,350,000, includes $680,000 annualized capital or O&M costs.

Changes in Estimates: There is a projected increase in burden due to an increase in the number of sources subject to the regulation.

(4) Docket ID Number: EPA-HQ-OECA-2014-0075; Title: NESHAP for Municipal Solid Waste Landfills (40 CFR part 63, subpart AAAA) (Renewal); EPA ICR Number 1938.07; OMB Control Number 2060-0505; Expiration Date: March 31, 2019.

Respondents: Municipal solid waste (MSW) landfills.

Respondent's obligation to respond: Mandatory (40 CFR part 63, subpart AAAA).

Estimated number of respondents: 1,126 (total).

Frequency of response: Initially and semiannually.

Estimated annual burden: 20,900 hours.

Estimated annual cost: $2,120,000, includes $16,900 annualized capital or O&M costs.

Changes in Estimates: There is a projected increase in burden due to an increase in the number of sources subject to the regulation.

(5) Docket ID Number: EPA-HQ-OECA-2014-0081; Title: NESHAP for Reinforced Plastic Composites Production (40 CFR part 63, subpart WWWW) (Renewal); EPA ICR Number 1976.07; OMB Control Number 2060-0509; Expiration Date: March 31, 2019.

Respondents: Facilities with reinforced plastic composites production operations and processes.

Respondent's obligation to respond: Mandatory (40 CFR part 63, subpart WWWW).

Estimated number of respondents: 600 (total).

Frequency of response: Initially, occasionally, and semiannually.

Estimated annual burden: 20,900 hours.

Estimated annual cost: $2,580,000, includes $476,000 annualized capital or O&M costs.

Changes in Estimates: There is a projected increase in burden due to an increase in the number of sources subject to the regulation.

(6) Docket ID Number: EPA-HQ-OECA-2011-0274; Title: NESHAP for the Wood Products Surface Coating Industry (40 CFR part 63, subpart QQQQ) (Renewal); EPA ICR Number 2034.07; OMB Control Number 2060-0510; Expiration Date: March 31, 2019.

Respondents: Facilities that perform surface coating of wood building products.

Respondent's obligation to respond: Mandatory (40 CFR part 63, subpart QQQQ).

Estimated number of respondents: 232 (total).

Frequency of response: Initially, occasionally, and semiannually.

Estimated annual burden: 75,800 hours.

Estimated annual cost: $7,880,000, includes $278,000 annualized capital or O&M costs.

Changes in Estimates: There is no change in burden from the previous ICR.

(7) Docket ID Number: EPA-HQ-OECA-2014-0077; Title: NESHAP for Paper and Other Web Coating (40 CFR part 63, subpart JJJJ) (Renewal); EPA ICR Number 1951.07; OMB Control Number 2060-0511; Expiration Date: March 31, 2019.

Respondents: Web coating facilities, including web coating lines engaged in the coating of metal webs used in flexible packaging, and web coating lines engaged in the coating of fabric substrates for use in pressure sensitive tape and abrasive materials.

Respondent's obligation to respond: Mandatory (40 CFR part 63, subpart JJJJ).

Estimated number of respondents: 251 (total).

Frequency of response: Initially, occasionally, and semiannually.

Estimated annual burden: 13,800 hours.

Estimated annual cost: $2,390,000, includes $1,010,000 annualized capital or O&M costs.

Changes in Estimates: There is a projected increase in burden due to an increase in the number of sources subject to the regulation.

(8) Docket ID Number: EPA-HQ-OECA-2014-0088; Title: NESHAP for Refractory Products Manufacturing (40 CFR part 63, subpart SSSSS) (Renewal); EPA ICR Number 2040.07; OMB Control Number 2060-0515; Expiration Date: March 31, 2019.

Respondents: Refractory products manufacturing facilities.

Respondent's obligation to respond: Mandatory (40 CFR part 63, subpart SSSSS).

Estimated number of respondents: 8 (total).

Frequency of response: Initially, occasionally, and semiannually.

Estimated annual burden: 343 hours.

Estimated annual cost: $37,000, includes $3,040 annualized capital or O&M costs.

Changes in Estimates: There is no change in burden from the previous ICR.

(9) Docket ID Number: EPA-HQ-OECA-2014-0086; Title: NESHAP for Flexible Polyurethane Foam Fabrication (40 CFR part 63, subpart MMMMM) (Renewal); EPA ICR Number 2027.07; OMB Control Number 2060-0516; Expiration Date: March 31, 2019.

Respondents: Flexible polyurethane foam fabrication facilities.

Respondent's obligation to respond: Mandatory (40 CFR part 63, subpart MMMMM).

Estimated number of respondents: 17 (total).

Frequency of response: Initially, occasionally, and semiannually.

Estimated annual burden: 18,900 hours.

Estimated annual cost: $1,930,000, includes $29,500 annualized capital or O&M costs.

Changes in Estimates: There is a projected increase in burden due to an increase in the number of sources subject to the regulation.

(10) Docket ID Number: EPA-HQ-OECA-2011-0271; Title: NESHAP for Integrated Iron and Steel Manufacturing (40 CFR part 63, subpart FFFFF) (Renewal); EPA ICR Number 2003.07; OMB Control Number 2060-0517; Expiration Date: March 31, 2019.

Respondents: Sinter plants, blast furnaces, and basic oxygen process furnace shops at integrated iron and steel manufacturing facilities.

Respondent's obligation to respond: Mandatory (40 CFR part 63, subpart FFFFF).

Estimated number of respondents: 18 (total).

Frequency of response: Initially, occasionally, and semiannually.

Estimated annual burden: 18,500 hours.

Estimated annual cost: $1,930,000, includes $67,000 annualized capital or O&M costs.

Changes in Estimates: There is no change in burden from the previous ICR.

(11) Docket ID Number: EPA-HQ-OECA-2014-0089; Title: NESHAP for Semiconductor Manufacturing (40 CFR part 63, subpart BBBBB) (Renewal); EPA ICR Number 2042.07; OMB Control Number 2060-0519; Expiration Date: March 31, 2019.

Respondents: Semiconductor manufacturing facilities.

Respondent's obligation to respond: Mandatory (40 CFR part 63, subpart BBBBB).

Estimated number of respondents: 127 (total).

Frequency of response: Initially, occasionally, and semiannually.

Estimated annual burden: 41 hours.

Estimated annual cost: $4,710, includes $550 annualized capital or O&M costs.

Changes in Estimates: There is no change in burden from the previous ICR.

(12) Docket ID Number: EPA-HQ-OECA-2014-0087; Title: NESHAP for Asphalt Processing and Asphalt Roofing Manufacturing (40 CFR part 63, subpart LLLLL) (Renewal); EPA ICR Number 2029.07; OMB Control Number 2060-0520; Expiration Date: March 31, 2019.

Respondents: Asphalt processing and asphalt roofing manufacturing facilities.

Respondent's obligation to respond: Mandatory (40 CFR part 63, subpart LLLLL).

Estimated number of respondents: 27 (total).

Frequency of response: Initially, occasionally, and semiannually.

Estimated annual burden: 13,400 hours.

Estimated annual cost: $1,480,000, includes $135,000 annualized capital or O&M costs.

Changes in Estimates: There is no change in burden from the previous ICR.

(13) Docket ID Number: EPA-HQ-OECA-2014-0084; Title: NESHAP for Coke Oven Pushing, Quenching, and Battery Stacks (40 CFR part 63, subpart CCCCC) (Renewal); EPA ICR Number 1995.07; OMB Control Number 2060-0521; Expiration Date: March 31, 2019.

Respondents: Coke oven batteries.

Respondent's obligation to respond: Mandatory (40 CFR part 63, subpart CCCCC).

Estimated number of respondents: 17 (total).

Frequency of response: Initially, occasionally, quarterly, and semiannually.

Estimated annual burden: 24,400 hours.

Estimated annual cost: $2,600,000, includes $152,000 annualized capital or O&M costs.

Changes in Estimates: There is no change in burden from the previous ICR.

(14) Docket ID Number: EPA-HQ-OECA-2014-0092; Title: NESHAP for Printing, Coating and Dyeing of Fabrics and Other Textiles (40 CFR part 63, subpart OOOO) (Renewal); EPA ICR Number 2071.07; OMB Control Number 2060-0522; Expiration Date: March 31, 2019.

Respondents: Fabric and textile printing, coating, slashing, dyeing or finishing facilities.

Respondent's obligation to respond: Mandatory (40 CFR part 63, subpart OOOO).

Estimated number of respondents: 146 (total).

Frequency of response: Initially, occasionally, and semiannually.

Estimated annual burden: 22,400 hours.

Estimated annual cost: $2,260,000, includes $6,750 annualized capital or O&M costs.

Changes in Estimates: There is a projected increase in burden due to an increase in the number of sources subject to the regulation.

(15) Docket ID Number: EPA-HQ-OECA-2011-0275; Title: NESHAP for Hydrochloric Acid Production (40 CFR part 63, subpart NNNNN) (Renewal); EPA ICR Number 2032.09; OMB Control Number 2060-0529; Expiration Date: March 31, 2019.

Respondents: Hydrochloric acid production facilities.

Respondent's obligation to respond: Mandatory (40 CFR part 63, subpart NNNNN).

Estimated number of respondents: 87 (total).

Frequency of response: Initially, occasionally, and semiannually.

Estimated annual burden: 3,240 hours.

Estimated annual cost: $12,200,000, includes $754,000 annualized capital or O&M costs.

Changes in Estimates: There is a projected increase in burden due to an increase in the number of sources subject to the regulation.

(16) Docket ID Number: EPA-HQ-OECA-2011-0264; Title: NSPS for Stationary Compression Ignition Internal Combustion Engines (40 CFR part 60, subpart IIII) (Renewal); EPA ICR Number 2196.06; OMB Control Number 2060-0590; Expiration Date: March 31, 2019.

Respondents: Compression ignition internal combustion engines.

Respondent's obligation to respond: Mandatory (40 CFR part 60, subpart IIII).

Estimated number of respondents: 260,530 (total).

Frequency of response: Initially and occasionally.

Estimated annual burden: 408,000 hours.

Estimated annual cost: $41,200,000, includes $188,000 annualized capital or O&M costs.

Changes in Estimates: There is a projected increase in burden due to an increase in the number of sources subject to the regulation.

(17) Docket ID Number: EPA-HQ-OECA-2014-0098; Title: NESHAP for Nine Metal Fabrication and Area Finishing Source (40 CFR part 63, subpart XXXXXX) (Renewal); EPA ICR Number 2298.05; OMB Control Number 2060-0622; Expiration Date: March 31, 2019.

Respondents: Area source metal fabrication and finishing facilities.

Respondent's obligation to respond: Mandatory (40 CFR part 63, subpart XXXXXX).

Estimated number of respondents: 5800 (total).

Frequency of response: Initially, occasionally, and semiannually.

Estimated annual burden: 35,700 hours.

Estimated annual cost: 3,590,000, includes $0 annualized capital or O&M costs.

Changes in Estimates: There is no change in burden from the previous ICR.

(18) Docket ID Number: EPA-HQ-OECA-2012-0526; Title: NESHAP for Aluminum, Copper, and Other Non-Ferrous Foundries (40 CFR part 63, subpart ZZZZZZ) (Renewal); EPA ICR Number 2332.05; OMB Control Number 2060-0630; Expiration Date: March 31, 2019.

Respondents: Melting operations located at an aluminum, copper, or other non-ferrous foundry.

Respondent's obligation to respond: Mandatory (40 CFR part 63, subpart ZZZZZZ).

Estimated number of respondents: 318 (total).

Frequency of response: Initially, occasionally, and semiannually.

Estimated annual burden: 11,900 hours.

Estimated annual cost: $1,200,000, includes $0 annualized capital or O&M costs.

Changes in Estimates: There is no change in burden from the previous ICR.

(19) Docket ID Number: EPA-HQ-OECA-2014-0101; Title: NESHAP for Polyvinyl Chloride and Copolymer Production (40 CFR part 63, subpart HHHHHHH) (Renewal); EPA ICR Number 2432.04; OMB Control Number 2060-0666; Expiration Date: March 31, 2019.

Respondents: Polyvinyl chloride and copolymers production facilities.

Respondent's obligation to respond: Mandatory (40 CFR part 63, subpart HHHHHHH).

Estimated number of respondents: 17 (total).

Frequency of response: Initially, occasionally, and semiannually.

Estimated annual burden: 378,000 hours.

Estimated annual cost: $43,200,000, includes $5,150,000 annualized capital or O&M costs.

Changes in Estimates: There is no change in burden from the previous ICR.

(20) Docket ID Number: EPA-HQ-OECA-2014-0102; Title: NSPS for Oil and Natural Gas Production and Natural Gas Transmission and Distribution (40 CFR part 60, subpart OOOO) (Renewal); EPA ICR Number 2437.04; OMB Control Number 2060-0673; Expiration Date: March 31, 2019.

Respondents: Facilities involved in the extraction and production of oil and natural gas, as well as the processing, transmission, and distribution of natural gas.

Respondent's obligation to respond: Mandatory (40 CFR part 60, subpart OOOO).

Estimated number of respondents: 564 (total).

Frequency of response: Initially, occasionally, and semiannually.

Estimated annual burden: 93,900 hours.

Estimated annual cost: $11,200,000, includes $1,750,000 annualized capital or O&M costs.

Changes in Estimates: There is a projected increase in burden due to an increase in the number of sources subject to the regulation.

(21) Docket ID Number: EPA-HQ-OECA-2014-0103; Title: NSPS for Nitric Acid Plants for which Construction, Reconstruction, or Modification Commenced after October 14, 2011 (40 CFR part 60, subpart Ga) (Renewal); EPA ICR Number 2445.04; OMB Control Number 2060-0674; Expiration Date: March 31, 2019.

Respondents: Nitric acid plants.

Respondent's obligation to respond: Mandatory (40 CFR part 60, subpart Ga).

Estimated number of respondents: 6 (total).

Frequency of response: Initially and occasionally.

Estimated annual burden: 1,370 hours.

Estimated annual cost: $386,000, includes $248,000 annualized capital or O&M costs.

Changes in Estimates: There is a projected increase in burden due to an increase in the number of sources subject to the regulation.

(22) Docket ID Number: EPA-HQ-OECA-2014-0104; Title: NESHAP for Polyvinyl Chloride and Copolymers Production Area Sources (40 CFR part 63, subpart DDDDDD (Renewal); EPA ICR Number 2454.03; OMB Control Number 2060-0684; Expiration Date: March 31, 2019.

Respondents: Area sources polyvinyl chloride and copolymers production facilities.

Respondent's obligation to respond: Mandatory (40 CFR part 63, subpart DDDDDD).

Estimated number of respondents: 3 (total).

Frequency of response: Initially and occasionally.

Estimated annual burden: 69,200 hours.

Estimated annual cost: $7,770,000, includes $806,000 annualized capital or O&M costs.

Changes in Estimates: There is no change in burden from the previous ICR.

(23) Docket ID Number: EPA-HQ-OECA-2018-0250; Title: NSPS for New Residential Hydronic Heaters and Forced-Air Furnaces (40 CFR part 60, subpart QQQQ) (Renewal); EPA ICR Number 2442.03; OMB Control Number 2060-0693; Expiration Date: March 31, 2019.

Respondents: New residential hydronic heaters and forced-air furnaces.

Respondent's obligation to respond: Mandatory (40 CFR part 60, subpart QQQQ).

Estimated number of respondents: 41 (total).

Frequency of response: Initially and occasionally.

Estimated annual burden: 2,337 hours.

Estimated annual cost: $3,380,000, includes $3,190,000 annualized capital or O&M costs.

Changes in Estimates: There is a projected decrease in burden since the last ICR, because the rule has been effective for more than three years, and the burden for ongoing compliance is expected to be less than the burden for initial compliance with the rule.

(24) Docket ID Number: EPA-HQ-OECA-2012-0533; Title: NSPS for the Phosphate Fertilizer Industry (40 CFR part 60, subparts T, U, V, W, and X) (Renewal); EPA ICR Number 1061.14; OMB Control Number 2060-0037; Expiration Date: April 30, 2019.

Respondents: Phosphate fertilizer manufacturing facilities.

Respondent's obligation to respond: Mandatory (40 CFR part 60, subparts T, U, V, W, and X).

Estimated number of respondents: 13 (total).

Frequency of response: Initially, occasionally, and semiannually.

Estimated annual burden: 1,390 hours.

Estimated annual cost: $460,000, includes $320,000 annualized capital or O&M costs.

Changes in Estimates: There is no change in burden from the previous ICR.

(25) Docket ID Number: EPA-HQ-OECA-2012-0528; Title: NSPS for Synthetic Fiber Production Facilities (40 CFR part 60, subpart HHH) (Renewal); EPA ICR Number 1156.14; OMB Control Number 2060-0059; Expiration Date: April 30, 2019.

Respondents: Synthetic fiber production facilities with a solvent-spun, synthetic fiber process that produce more than 500 megagrams of fiber per year.

Respondent's obligation to respond: Mandatory (40 CFR part 60, subpart HHH).

Estimated number of respondents: 22 (total).

Frequency of response: Initially, occasionally, quarterly, and semiannually.

Estimated annual burden: 1,880 hours.

Estimated annual cost: $355,000, includes $165,000 annualized capital or O&M costs.

Changes in Estimates: There is no change in burden from the previous ICR.

(26) Docket ID Number: EPA-HQ-OECA-2012-0535; Title: NSPS for Secondary Lead Smelters (40 CFR part 60, subpart L) (Renewal); EPA ICR Number 1128.12; OMB Control Number 2060-0080; Expiration Date: April 30, 2019.

Respondents: Secondary lead smelting facilities.

Respondent's obligation to respond: Mandatory (40 CFR part 60, subpart L).

Estimated number of respondents: 14 (total).

Frequency of response: Initially and occasionally.

Estimated annual burden: 37 hours.

Estimated annual cost: $3,720, includes $0 annualized capital or O&M costs.

Changes in Estimates: There is no change in burden from the previous ICR.

(27) Docket ID Number: EPA-HQ-OECA-2012-0534; Title: NSPS for Surface Coating of Plastic Parts for Business Machines (40 CFR part 60, subpart TTT) (Renewal); EPA ICR Number 1093.12; OMB Control Number 2060-0162; Expiration Date: April 30, 2019.

Respondents: Facilities that perform industrial surface coating operations on plastic parts for use in the manufacture of business machines.

Respondent's obligation to respond: Mandatory (40 CFR part 60, subpart TTT).

Estimated number of respondents: 10 (total).

Frequency of response: Initially, occasionally, quarterly, and semiannually.

Estimated annual burden: 992 hours.

Estimated annual cost: $99,700, includes $0 annualized capital or O&M costs.

Changes in Estimates: There is no change in burden from the previous ICR.

(28) Docket ID Number: EPA-HQ-OECA-2012-0517; Title: NSPS for Emission Guidelines and Compliance Times for Small Municipal Waste Combustion Units Constructed on or before August 30, 1999 (40 CFR part 60, subpart BBBB) (Renewal); EPA ICR Number 1901.07; OMB Control Number 2060-0424; Expiration Date: April 30, 2019.

Respondents: MWC units with capacities to combust greater than 35 tons per day and less than 250 tons per day of municipal solid waste.

Respondent's obligation to respond: Mandatory (40 CFR part 60, subpart BBBB).

Estimated number of respondents: 23 (total).

Frequency of response: Initially, occasionally, and semiannually.

Estimated annual burden: 102,000 hours.

Estimated annual cost: $11,200,000, includes $1,040,000 annualized capital or O&M costs.

Changes in Estimates: There is no change in burden from the previous ICR.

(29) Docket ID Number: EPA-HQ-OECA-2012-0518; Title: NESHAP for Metal Furniture Surface Coating (40 CFR part 63, subpart RRRR) (Renewal); EPA ICR Number 1952.07; OMB Control Number 2060-0518; Expiration Date: April 30, 2019.

Respondents: Metal furniture surface coating facilities.

Respondent's obligation to respond: Mandatory (40 CFR part 63, subpart RRRR).

Estimated number of respondents: 583 (total).

Frequency of response: Initially, occasionally, and semiannually.

Estimated annual burden: 190,000 hours.

Estimated annual cost: $19,800,000, includes $700,000 annualized capital or O&M costs.

Changes in Estimates: There is no change in burden from the previous ICR.

(30) Docket ID Number: EPA-HQ-OECA-2011-0228; Title: NSPS for Petroleum Refineries for which Construction, Reconstruction, or Modification Commenced after May 14, 2007 (40 CFR part 60, subpart Ja) (Renewal); EPA ICR Number 2263.06; OMB Control Number 2060-0602; Expiration Date: April 30, 2019.

Respondents: Petroleum refineries.

Respondent's obligation to respond: Mandatory (40 CFR part 60, subpart Ja).

Estimated number of respondents: 150 (total).

Frequency of response: Initially, occasionally, and semiannually.

Estimated annual burden: 64,300 hours.

Estimated annual cost: $22,100,000, includes $15,700,000 annualized capital or O&M costs.

Changes in Estimates: There is no change in burden from the previous ICR.

(31) Docket ID Number: EPA-HQ-OECA-2012-0525; Title: NESHAP for Chemical Manufacturing Area Sources (40 CFR part 63, subpart VVVVVV) (Renewal); EPA ICR Number 2323.07; OMB Control Number 2060-0621; Expiration Date: April 30, 2019.

Respondents: Agricultural chemicals and pesticides manufacturing, cyclic crude and intermediate production, industrial inorganic chemical manufacturing, industrial organic chemical manufacturing, inorganic pigments manufacturing, miscellaneous organic chemical manufacturing, plastic materials and resins manufacturing, pharmaceutical production, and synthetic rubber manufacturing facilities.

Respondent's obligation to respond: Mandatory (40 CFR part 63, subpart VVVVVV).

Estimated number of respondents: 489 (total).

Frequency of response: Initially, occasionally, and semiannually.

Estimated annual burden: 9,590 hours.

Estimated annual cost: $2,220,000, includes $1,250,000 annualized capital or O&M costs.

Changes in Estimates: There is a projected increase in burden due to an increase in the number of sources subject to the regulation.

(32) Docket ID Number: EPA-HQ-OECA-2011-0208; Title: NESHAP for Pulp and Paper Production (40 CFR part 63, subpart S) (Renewal); EPA ICR Number 2452.04; OMB Control Number 2060-0681; Expiration Date: April 30, 2019.

Respondents: Pulp and paper production facilities.

Respondent's obligation to respond: Mandatory (40 CFR part 63, subpart S).

Estimated number of respondents: 114 (total).

Frequency of response: Initially, occasionally, and semiannually.

Estimated annual burden: 52,304 hours.

Estimated annual cost: $5,780,000, includes $841,000 annualized capital or operation & maintenance (O&M) costs.

Changes in Estimates: There is no change in burden from the previous ICR.

(33) Docket ID Number: EPA-HQ-OECA-2012-0497; Title: NSPS for Fossil-Fuel-Fired Steam Generating Units (40 CR part 63, subpart D) (Renewal); EPA ICR Number 1052.12; OMB Control Number 2060-0026; Expiration Date: May 31, 2019.

Respondents: Fossil fuel fired steam generating unit with heat input rate of 73 megawatts (MW) or more.

Respondent's obligation to respond: Mandatory (40 CR part 63, subpart D).

Estimated number of respondents: 660 (total).

Frequency of response: Initially and semiannually.

Estimated annual burden: 71,500 hours.

Estimated annual cost: $17,100,000, includes $9,900,000 annualized capital or O&M costs.

Changes in Estimates: There is no change in burden from the previous ICR.

(34) Docket ID Number: EPA-HQ-OECA-2012-0655; Title: NSPS for Ammonium Sulfate Manufacturing Plants (40 CFR part 60, subpart PP) (Renewal); EPA ICR Number 1066.09; OMB Control Number 2060-0032; Expiration Date: May 31, 2019.

Respondents: Ammonium sulfate dryers located at ammonium sulfate manufacturing plants.

Respondent's obligation to respond: Mandatory (40 CFR part 60, subpart PP).

Estimated number of respondents: 2 (total).

Frequency of response: Initially and semiannually.

Estimated annual burden: 286 hours.

Estimated annual cost: $28,700, includes $0 annualized capital or O&M costs.

Changes in Estimates: There is no change in burden from the previous ICR.

(35) Docket ID Number: EPA-HQ-OECA-2011-0239; Title: NSPS for Grain Elevators (40 CFR part 60, subpart DD) (Renewal); EPA ICR Number 1130.12; OMB Control Number 2060-0082; Expiration Date: May 31, 2019.

Respondents: Facilities with grain elevators.

Respondent's obligation to respond: Mandatory (40 CFR part 60, subpart DD).

Estimated number of respondents: 200 (total).

Frequency of response: Initially and occasionally.

Estimated annual burden: 460 hours.

Estimated annual cost: $46,000, includes $0 annualized capital or O&M costs.

Changes in Estimates: There is no change in burden from the previous ICR.

(36) Docket ID Number: EPA-HQ-OECA-2012-0498; Title: NSPS for Coal Preparation and Processing Plants (40 CFR part 60, subpart Y) (Renewal); EPA ICR Number 1062.15; OMB Control Number 2060-0122; Expiration Date: May 31, 2019.

Respondents: Coal preparation and processing plants.

Respondent's obligation to respond: Mandatory (40 CFR part 60, subpart Y).

Estimated number of respondents: 1,037 (total).

Frequency of response: Initially, occasionally, and semiannually.

Estimated annual burden: 42,300 hours.

Estimated annual cost: $4,320,000, includes $65,600 annualized capital or O&M costs.

Changes in Estimates: There is no change in burden from the previous ICR.

(37) Docket ID Number: EPA-HQ-OECA-2012-0502; Title: NESHAP for Petroleum Refineries (40 CFR part 63, subpart CC) (Renewal); EPA ICR Number 1692.10; OMB Control Number 2060-0340; Expiration Date: May 31, 2019.

Respondents: Petroleum refining process units and emission points located at refineries that are major sources of HAP emissions.

Respondent's obligation to respond: Mandatory (40 CFR part 63, subpart CC).

Estimated number of respondents: 142 (total).

Frequency of response: Initially, occasionally, and semiannually.

Estimated annual burden: 528,000 hours.

Estimated annual cost: $54,800,000, includes $142,989 annualized capital or O&M costs.

Changes in Estimates: There is a projected increase in burden due to reconstruction of existing sources.

(38) Docket ID Number: EPA-HQ-OECA-2012-0502; Title: NSPS for Hospital/Medical/Infectious Waste Incinerators (40 CFR part 60, subpart Ec) (Renewal); EPA ICR Number 1730.11; OMB Control Number 2060-0363; Expiration Date: May 31, 2019.

Respondents: Hospital/medical/infectious waste incinerators for which construction commenced after June 20, 1996, or for which modification commenced after March 16, 1998, but no later than April 6, 2010.

Respondent's obligation to respond: Mandatory (40 CFR part 60, subpart Ec).

Estimated number of respondents: 8 (total).

Frequency of response: Initially, occasionally, and semiannually.

Estimated annual burden: 5,670 hours.

Estimated annual cost: $972,000, includes $402,000 annualized capital or O&M costs.

Changes in Estimates: There is a projected increase in burden due to an increase in the number of sources subject to the regulation.

(39) Docket ID Number: EPA-HQ-OECA-2012-0503; Title: Emission Guidelines for Large Municipal Waste Combustors Constructed on or Before September 20, 1994 (40 CFR part 60, subpart Cb) (Renewal); EPA ICR Number 1847.08; OMB Control Number 2060-0390; Expiration Date: May 31, 2019.

Respondents: Municipal waste combustion units with a capacity greater than 250 tons per day.

Respondent's obligation to respond: Mandatory (40 CFR part 60, subpart Cb).

Estimated number of respondents: 81 (total).

Frequency of response: Initially, occasionally, and semiannually.

Estimated annual burden: 202,000 hours.

Estimated annual cost: $30,500,000, includes $1,560,000 annualized capital or O&M costs.

Changes in Estimates: There is no change in burden from the previous ICR.

(40) Docket ID Number: EPA-HQ-OECA-2013-0337; Title: NESHAP for the Portland Cement Manufacturing Industry (40 CFR part 63, subpart LLL) (Renewal); EPA ICR Number 1801.13; OMB Control Number 2060-0416; Expiration Date: May 31, 2019.

Respondents: Portland cement plants.

Respondent's obligation to respond: Mandatory (40 CFR part 63, subpart LLL).

Estimated number of respondents: 87 (total).

Frequency of response: Initially, occasionally, and semiannually.

Estimated annual burden: 59,600 hours.

Estimated annual cost: $25,800,000, includes $19,800,000 annualized capital or O&M costs.

Changes in Estimates: There is a projected increase in burden due to reconstruction of existing sources.

(41) Docket ID Number: EPA-HQ-OECA-2011-0272; Title: Emission Guidelines for Hospital/Medical/Infectious Waste Incinerators (40 CFR part 60, subpart Ce and 40 CFR part 62, subpart HHH) (Renewal); EPA ICR Number 1899.09; OMB Control Number 2060-0422; Expiration Date: May 31, 2019.

Respondents: Hospital/medical/infectious waste incinerators constructed before December 1, 2008 or for which modification commenced prior to April 6, 2010.

Respondent's obligation to respond: Mandatory (40 CFR part 60, subpart Ce and 40 CFR part 62, subpart HHH).

Estimated number of respondents: 58 (total).

Frequency of response: Initially, occasionally, and semiannually.

Estimated annual burden: 38,800 hours.

Estimated annual cost: $4,370,000, includes $479,216 annualized capital or O&M costs.

Changes in Estimates: There is no change in burden from the previous ICR.

(42) Docket ID Number: EPA-HQ-OECA-2012-0506; Title: NSPS for Small Municipal Waste Combustors (40 CFR part 60, subpart AAAA) (Renewal); EPA ICR Number 1900.07; OMB Control Number 2060-0423; Expiration Date: May 31, 2019.

Respondents: Small municipal waste combustors (MWCs) that combust greater than 35 tons per day, but less than 250 tons per day of waste.

Respondent's obligation to respond: Mandatory (40 CFR part 60, subpart AAAA).

Estimated number of respondents: 6 (total).

Frequency of response: Initially, occasionally, and semiannually.

Estimated annual burden: 15,000 hours.

Estimated annual cost: $1,700,000, includes $226,400 annualized capital or O&M costs.

Changes in Estimates: There is a projected increase in burden due to an increase in the number of sources subject to the regulation.

(43) Docket ID Number: EPA-HQ-OECA-2012-0505; Title: NESHAP for Secondary Aluminum Production (40 CFR part 63, subpart RRR) (Renewal); EPA ICR Number 1894.09; OMB Control Number 2060-0433; Expiration Date: May 31, 2019.

Respondents: Secondary aluminum production facilities.

Respondent's obligation to respond: Mandatory (40 CFR part 63, subpart RRR).

Estimated number of respondents: 161 (total).

Frequency of response: Initially, occasionally, and semiannually.

Estimated annual burden: 12,600 hours.

Estimated annual cost: $5,380,000, includes $4,110,000 annualized capital or O&M costs.

Changes in Estimates: There is no change in burden from the previous ICR.

(44) Docket ID Number: EPA-HQ-OECA-2014-0090; Title: NESHAP for Miscellaneous Metal Parts and Products (40 CFR part 63, subpart MMMM) (Renewal); EPA ICR Number 2056.06; OMB Control Number 2060-0486; Expiration Date: May 31, 2019.

Respondents: Facilities that conduct miscellaneous metal parts and products surface coating operations.

Respondent's obligation to respond: Mandatory (40 CFR part 63, subpart MMMM).

Estimated number of respondents: 4,992 (total).

Frequency of response: Initially and semiannually.

Estimated annual burden: 2,280,000 hours.

Estimated annual cost: $230,000,000, includes $1,050,000 annualized capital or O&M costs.

Changes in Estimates: There is no change in burden from the previous ICR.

(45) Docket ID Number: EPA-HQ-OECA-2015-0191; Title: NESHAP for Miscellaneous Organic Chemical Manufacturing (40 CFR part 63, subpart FFFF) (Renewal); EPA ICR Number 1969.06; OMB Control Number 2060-0533; Expiration Date: May 31, 2019.

Respondents: Miscellaneous organic chemical manufacturing facilities.

Respondent's obligation to respond: Mandatory (40 CFR part 63, subpart FFFF).

Estimated number of respondents: 263 (total).

Frequency of response: Initially and semiannually.

Estimated annual burden: 426,000 hours.

Estimated annual cost: $46,900,000, includes $5,750,000 annualized capital or O&M costs.

Changes in Estimates: There is a projected increase in burden due to an increase in the number of sources subject to the regulation.

(46) Docket ID Number: EPA-HQ-OECA-2012-0524; Title: NSPS for Stationary Combustion Turbines (40 CFR part 60, subpart KKKK) (Renewal); EPA ICR Number 2177.07; OMB Control Number 2060-0582; Expiration Date: May 31, 2019.

Respondents: New stationary combustion turbines with a heat input at peak load equal to or greater than 10.7 gigajoules (10 MMBtu) per hour.

Respondent's obligation to respond: Mandatory (40 CFR part 60, subpart KKKK).

Estimated number of respondents: 589 (total).

Frequency of response: Initially and semiannually.

Estimated annual burden: 59,000 hours.

Estimated annual cost: $5,930,000, includes $0 annualized capital or O&M costs.

Changes in Estimates: There is a projected increase in burden due to an increase in the number of sources subject to the regulation.

(47) Docket ID Number: EPA-HQ-OECA-2012-0527; Title: NESHAP for Paints and Allied Products Manufacturing Area Source Category (40 CFR part 63, subpart CCCCCCC) (Renewal); EPA ICR Number 2348.05; OMB Control Number 2060-0633; Expiration Date: May 31, 2019.

Respondents: Paint and coating manufacturers, adhesive manufacturers, printing ink manufacturers, and miscellaneous chemical product and preparation manufacturers.

Respondent's obligation to respond: Mandatory (40 CFR part 63, subpart CCCCCCC).

Estimated number of respondents: 2,190 (total).

Frequency of response: Initially, occasionally, and semiannually.

Estimated annual burden: 5,040 hours.

Estimated annual cost: $1,240,000, includes $0 annualized capital or O&M costs.

Changes in Estimates: There is no change in burden from the previous ICR.

(48) Docket ID Number: EPA-HQ-OECA-2012-0496; Title: NESHAP for Asphalt Processing and Asphalt Roofing Manufacturing (40 CFR part 63, subpart AAAAAAA) (Renewal); EPA ICR Number 2352.05; OMB Control Number 2060-0634; Expiration Date: May 31, 2019.

Respondents: Area sources that process asphalt or manufacture asphalt roofing products.

Respondent's obligation to respond: Mandatory (40 CFR part 63, subpart AAAAAAA).

Estimated number of respondents: 75 (total).

Frequency of response: Semiannually.

Estimated annual burden: 175 hours.

Estimated annual cost: $305,000, includes $1,130 annualized capital or O&M costs.

Changes in Estimates: There is no change in burden from the previous ICR.

(49) Docket ID Number: EPA-HQ-OECA-2012-0642; Title: NESHAP for Chemical Preparations Industry (40 CFR part 63, subpart BBBBBBB) (Renewal); EPA ICR Number 2356.05; OMB Control Number 2060-0636; Expiration Date: May 31, 2019.

Respondents: Chemical preparation facilities.

Respondent's obligation to respond: Mandatory (40 CFR part 63, subpart BBBBBBB).

Estimated number of respondents: 26 (total).

Frequency of response: Initially and semiannually.

Estimated annual burden: 2,210 hours.

Estimated annual cost: $223,000, includes $390 annualized capital or O&M costs.

Changes in Estimates: There is no change in burden from the previous ICR.

(50) Docket ID Number: EPA-HQ-OECA-2018-0251; Title: NESHAP for Secondary Aluminum Production (40 CFR part 63, subpart RRR) (Renewal); EPA ICR Number 2453.03; OMB Control Number 2060-0683; Expiration Date: May 31, 2019.

Respondents: Secondary aluminum production plants.

Respondent's obligation to respond: Mandatory (40 CFR part 63, subpart RRR).

Estimated number of respondents: 161 (total).

Frequency of response: 50

Estimated annual burden: 1,695 hours.

Estimated annual cost: $2,480,000, includes $2,320,000 annualized capital or O&M costs.

Changes in Estimates: There is a projected decrease in burden since the last ICR, because the rule has been effective for more than three years, and the burden for ongoing compliance is expected to be less than the burden for initial compliance with the rule.

(51) Docket ID Number: EPA-HQ-OECA-2012-0666; Title: NESHAP for the Printing and Publishing Industry (40 CFR part 63, subpart KK) (Renewal); EPA ICR Number 1739.09; OMB Control Number 2060-0335; Expiration Date: June 30, 2019.

Respondents: Publication rotogravure, product and packaging rotogravure, and wide-web flexographic printing presses at major sources.

Respondent's obligation to respond: Mandatory (40 CFR part 63, subpart KK).

Estimated number of respondents: 352 (total).

Frequency of response: Initially, occasionally, and semiannually.

Estimated annual burden: 59,800 hours.

Estimated annual cost: $6,420,000, includes $414,000 annualized capital or O&M costs.

Changes in Estimates: There is no change in burden from the previous ICR.

(52) Docket ID Number: EPA-HQ-OECA-2012-0677; Title: NSPS for Standards of Peformance for Storage Vessels for Petroleum Liquids for which Construction, Reconstruction or Modification Commenced after June 11, 1973, and prior to May 19, 1978 (Renewal); EPA ICR Number 1797.08; OMB Control Number 2060-0442; Expiration Date: June 30, 2019.

Respondents: Facilities that store petroleum liquids in storage vessels.

Respondent's obligation to respond: Mandatory (40 CFR part 60, subpart K).

Estimated number of respondents: 69 (total).

Frequency of response: Occasionally.

Estimated annual burden: 321 hours.

Estimated annual cost: $32,200, includes $0 annualized capital or O&M costs.

Changes in Estimates: There is no change in burden from the previous ICR.

(53) Docket ID Number: EPA-HQ-OECA-2012-0699; Title: NESHAP for Primary Magnesium Refining (40 CFR part 63, subpart TTTTT) (Renewal); EPA ICR Number 2098.08; OMB Control Number 2060-0536; Expiration Date: June 30, 2019.

Respondents: Primary magnesium refining facilities.

Respondent's obligation to respond: Mandatory (40 CFR part 63, subpart TTTTT).

Estimated number of respondents: 1 (total).

Frequency of response: Initially, occasionally, and semiannually.

Estimated annual burden: 611 hours.

Estimated annual cost: $62,700, includes $1,200 annualized capital or O&M costs.

Changes in Estimates: There is no change in burden from the previous ICR.

(54) Docket ID Number: EPA-HQ-OECA-2012-0693; Title: NESHAP for Taconite Iron Ore Processing (40 CFR part 63 subpart RRRRR) (Renewal); EPA ICR Number 2050.07; OMB Control Number 2060-0538; Expiration Date: June 30, 2019.

Respondents: Taconite iron ore processing facilities.

Respondent's obligation to respond: Mandatory (40 CFR part 63 subpart RRRRR).

Estimated number of respondents: 4 (total).

Frequency of response: Initially, occasionally, and semiannually.

Estimated annual burden: 276 hours.

Estimated annual cost: $326,000, includes $298,000 annualized capital or O&M costs.

Changes in Estimates: There is a projected decrease in burden due to anticipated shutdown of existing sources.

(55) Docket ID Number: EPA-HQ-OECA-2012-0691; Title: NESHAP for Mercury Cell Chlor-Alkali Plants (40 CFR part 63, subpart IIIII) (Renewal); EPA ICR Number 2046.09; OMB Control Number 2060-0542; Expiration Date: June 30, 2019.

Respondents: Mercury cell chlor-alkali plants.

Respondent's obligation to respond: Mandatory (40 CFR part 63, subpart IIIII).

Estimated number of respondents: 2 (total).

Frequency of response: Initially, occasionally, and semiannually.

Estimated annual burden: 3,760 hours.

Estimated annual cost: $394,000, includes $16,400 annualized capital or O&M costs.

Changes in Estimates: There is no change in burden from the previous ICR.

(56) Docket ID Number: EPA-HQ-OECA-2012-0702; Title: NESHAP for Area Sources: Polyvinyl Chloride and Copolymers Production, Primary Copper Smelting, Secondary Copper Smelting, and Primary Nonferrous Metals-Zinc, Cadmium, and Beryllium (Renewal); EPA ICR Number 2240.06; OMB Control Number 2060-0596; Expiration Date: June 30, 2019.

Respondents: Polyvinyl chloride and copolymers production, primary copper smelting, secondary copper smelting, and zinc, cadmium, and beryllium production facilities.

Respondent's obligation to respond: Mandatory (40 CFR part 63, subparts EEEEEE, FFFFFF, and GGGGGG).

Estimated number of respondents: 5 (total).

Frequency of response: Initially.

Estimated annual burden: 74 hours.

Estimated annual cost: $7,400, includes $0 annualized capital or O&M costs.

Changes in Estimates: There is no change in burden from the previous ICR.

(57) Docket ID Number: EPA-HQ-OECA-2012-0703; Title: NESHAP for Prepared Feeds Manufacturing (40 CFR part 63, subpart DDDDDDD) (Renewal); EPA ICR Number 2354.05; OMB Control Number 2060-0635; Expiration Date: June 30, 2019.

Respondents: Prepared feeds manufacturing facilities.

Respondent's obligation to respond: Mandatory (40 CFR part 63, subpart DDDDDDD).

Estimated number of respondents: 1,800 (total).

Frequency of response: Initially, annually.

Estimated annual burden: 64,100 hours.

Estimated annual cost: $6,490,000, includes $37,200 annualized capital or O&M costs.

Changes in Estimates: There is no change in burden from the previous ICR.

(58) Docket ID Number: EPA-HQ-OECA-2018-0249; Title: NSPS for Greenhouse Gas Emissions for New Electric Utility Generating Units (40 CFR part 60, Subpart TTTT) (Renewal); EPA ICR Number 2465.04; OMB Control Number 2060-0685; Expiration Date: July 31, 2019.

Respondents: Fossil fuel-fired electric utility steam generating units.

Respondent's obligation to respond: Mandatory (40 CFR part 60, subpart TTTT).

Estimated number of respondents: 37 (total).

Frequency of response: Initially, quarterly.

Estimated annual burden: 651 hours.

Estimated annual cost: $60,977, includes $0 annualized capital or O&M costs.

Changes in Estimates: There is a projected increase in burden due to difference in requirements for ongoing compliance since the initial three-year period of the rule.

(59) Docket ID Number: EPA-HQ-OECA-2012-0643; Title: NSPS for Pressure Sensitive Tape and Label Surface Coating (40 CFR part 60, subpart RR) (Renewal); EPA ICR Number 0658.13; OMB Control Number 2060-0004; Expiration Date: August 31, 2019.

Respondents: Coating lines used in the manufacture of pressure sensitive tape and label materials.

Respondent's obligation to respond: Mandatory (40 CFR part 60, subpart RR).

Estimated number of respondents: 42 (total).

Frequency of response: Initially, occasionally, and semiannually.

Estimated annual burden: 3,970 hours.

Estimated annual cost: $482,000, includes $82,600 annualized capital or O&M costs.

Changes in Estimates: There is a projected increase in burden due to an increase in the number of sources subject to the regulation.

(60) Docket ID Number: EPA-HQ-OECA-2012-0653; Title: NSPS for Steel Plants: Electric Arc Furnaces and Argon-Oxygen Decarburization Vessels (40 CFR part 60, subparts AA and AAa) (Renewal); EPA ICR Number 1060.18; OMB Control Number 2060-0038; Expiration Date: August 31, 2019.

Respondents: Steel plants that produce carbon, alloy, or specialty steels.

Respondent's obligation to respond: Mandatory (40 CFR part 60, subparts AA and AAa).

Estimated number of respondents: 99 (total).

Frequency of response: Initially, occasionally, and semiannually.

Estimated annual burden: 62,000 hours.

Estimated annual cost: $6,430,000, includes $203,000 annualized capital or O&M costs.

Changes in Estimates: There is a projected increase in burden due to an increase in the number of sources subject to the regulation.

(61) Docket ID Number: EPA-HQ-OECA-2012-0659; Title: NESHAP for Perchlorethylene Dry Cleaning Facilities (40 CFR part 63, subpart M) (Renewal); EPA ICR Number 1415.12; OMB Control Number 2060-0234; Expiration Date: August 31, 2019.

Respondents: Dry cleaning facilities that use perchloroethylene.

Respondent's obligation to respond: Mandatory (40 CFR part 63, subpart M).

Estimated number of respondents: 28,012 (total).

Frequency of response: Initially, occasionally, and semiannually.

Estimated annual burden: 1,590,000 hours.

Estimated annual cost: $167,000,000, includes $947,000 annualized capital or O&M costs.

Changes in Estimates: There is no change in burden from the previous ICR.

(62) Docket ID Number: EPA-HQ-OECA-2012-0680; Title: Emission Guidelines and Compliance Times for Municipal Solid Waste Landfills (40 CFR part 60, subpart Cc and 40 CFR part 62, subpart GGG) (Renewal); EPA ICR Number 1893.08; OMB Control Number 2060-0430; Expiration Date: August 31, 2019.

Respondents: Municipal solid waste landfills.

Respondent's obligation to respond: Mandatory (40 CFR part 60, subpart Cc and 40 CFR part 62, subpart GGG).

Estimated number of respondents: 465 (total).

Frequency of response: Initially, occasionally, semiannually and annually.

Estimated annual burden: 38,900 hours.

Estimated annual cost: $3,050,000, includes $603,000 annualized capital or O&M costs.

Changes in Estimates: There is a projected decrease in burden due to anticipated shutdown of existing sources.

(63) Docket ID Number: EPA-HQ-OECA-2012-0688; Title: NESHAP for Plastic Parts and Products Surface Coating (40 CFR part 63, subpart PPPP) (Renewal); EPA ICR Number 2044.07; OMB Control Number 2060-0537; Expiration Date: August 31, 2019.

Respondents: Facilities that perform surface coating of plastic parts and products.

Respondent's obligation to respond: Mandatory (40 CFR part 63, subpart PPPP).

Estimated number of respondents: 835 (total).

Frequency of response: Initially, occasionally, and semiannually.

Estimated annual burden: 324,000 hours.

Estimated annual cost: $32,800,000, includes $267,000 annualized capital or O&M costs.

Changes in estimates: There is a projected increase in burden due to an increase in the number of sources subject to the regulation.

(64) Docket ID Number: EPA-HQ-OECA-2013-0355; Title: NESHAP for Clay Ceramics Manufacturing, Glass Manufacturing and Secondary Nonferrous Metals Processing Area Sources (40 CFR part 63, subparts RRRRRR, SSSSSS, and TTTTTT) (Renewal); EPA ICR Number 2274.06; OMB Control Number 2060-0606; Expiration Date: August 31, 2019.

Respondents: Area sources of clay ceramics manufacturing, glass manufacturing, and secondary nonferrous metals processing.

Respondent's obligation to respond: Mandatory (40 CFR part 63, subparts RRRRRR, SSSSSS, and TTTTTT).

Estimated number of respondents: 82 (total).

Frequency of response: Initially.

Estimated annual burden: 1,810 hours.

Estimated annual cost: $197,000, includes $9,850 annualized capital or O&M costs.

Changes in estimates: There is no change in burden from the previous ICR.

(65) Docket ID Number: EPA-HQ-OECA-2015-0190; Title: NSPS for Nitric Acid Plants (40 CFR part 60, subparts G and Ga) (Renewal); EPA ICR Number 1056.13; OMB Control Number 2060-0019; Expiration Date: September 30, 2019.

Respondents: Nitric acid production units.

Respondent's obligation to respond: Mandatory (40 CFR part 60, subparts G and Ga).

Estimated number of respondents: 29 (total).

Frequency of response: Initially, occasionally, and semiannually.

Estimated annual burden: 2,190 hours.

Estimated annual cost: $2,970,000, includes $2,740,000 annualized capital or O&M costs.

Changes in estimates: There is no change in burden from the previous ICR.

(66) Docket ID Number: EPA-HQ-OECA-2012-0654; Title: NSPS for Automobile and Light Duty Truck Surface Coating Operations (40 CFR part 60, subpart MM) (Renewal); EPA ICR Number 1064.19; OMB Control Number 2060-0034; Expiration Date: September 30, 2019.

Respondents: Automobile and light duty truck surface coating operations.

Respondent's obligation to respond: Mandatory (40 CFR part 60, subpart MM).

Estimated number of respondents: 64 (total).

Frequency of response: Initially, quarterly, and semiannually.

Estimated annual burden: 192,000 hours.

Estimated annual cost: $19,900,000, includes $114,000 annualized capital or O&M costs.

Changes in estimates: There is a projected increase in burden due to an increase in the number of sources subject to the regulation.

(67) Docket ID Number: EPA-HQ-OECA-2012-0657; Title: NSPS for Flexible Vinyl and Urethane Coating and Printing (40 CFR part 60, subpart FFF) (Renewal); EPA ICR Number 1157.12; OMB Control Number 2060-0073; Expiration Date: September 30, 2019.

Respondents: Rotogravure printing lines used to print or coat flexible vinyl or urethane products.

Respondent's obligation to respond: Mandatory (40 CFR part 60, subpart FFF).

Estimated number of respondents: 25 (total).

Frequency of response: Initially and semiannually.

Estimated annual burden: 848 hours.

Estimated annual cost: $320,000, includes $232,000 annualized capital or O&M costs.

Changes in estimates: There is no change in burden from the previous ICR.

(68) Docket ID Number: EPA-HQ-OECA-2012-0656; Title: NSPS for Lead-Acid Battery Manufacturing (40 CFR part 60, subpart KK) (Renewal); EPA ICR Number 1072.12; OMB Control Number 2060-0081; Expiration Date: September 30, 2019.

Respondents: Lead-acid battery manufacturing facilities.

Respondent's obligation to respond: Mandatory (40 CFR part 60, subpart KK).

Estimated number of respondents: 52 (total).

Frequency of response: Initially and semiannually.

Estimated annual burden: 3,990 hours.

Estimated annual cost: $423,000, includes $11,700 annualized capital or O&M costs.

Changes in estimates: There is no change in burden from the previous ICR.

(69) Docket ID Number: EPA-HQ-OECA-2012-0658; Title: NSPS/NESHAP for Wool Fiberglass Insulation Manufacturing Plants (40 CFR part 60, subpart PPP and 40 CFR part 63, subpart NNN) (Renewal); EPA ICR Number 1160.14; OMB Control Number 2060-0114; Expiration Date: September 30, 2019.

Respondents: Wool fiberglass insulation manufacturing facilities.

Respondent's obligation to respond: Mandatory (40 CFR part 60, subpart PPP and 40 CFR part 63, subpart NNN).

Estimated number of respondents: 42 (total).

Frequency of response: Initially, occasionally, and semiannually.

Estimated annual burden: 2,670 hours.

Estimated annual cost: $803,000, includes $622,000 annualized capital or O&M costs.

Changes in estimates: There is no change in burden from the previous ICR.

(70) Docket ID Number: EPA-HQ-OECA-2012-0660; Title: NESHAP for Halogenated Solvent Cleaners/Halogenated Hazardous Air Pollutants (40 CFR part 63, subpart T) (Renewal); EPA ICR Number 1652.10; OMB Control Number 2060-0273; Expiration Date: September 30, 2019.

Respondents: Solvent cleaning machines that uses any solvent containing HAP.

Respondent's obligation to respond: Mandatory (40 CFR part 63, subpart T).

Estimated number of respondents: 1,431 (total).

Frequency of response: Initially, quarterly, and semiannually, and annually.

Estimated annual burden: 48,000 hours.

Estimated annual cost: $5,960,000, includes $1,010,000 annualized capital or O&M costs.

Changes in estimates: There is no change in burden from the previous ICR.

(71) Docket ID Number: EPA-HQ-OECA-2012-0665; Title: NESHAP for Magnetic Tape Manufacturing Operations (40 CFR part 63, subpart EE) (Renewal); EPA ICR Number 1678.10; OMB Control Number 2060-0326; Expiration Date: September 30, 2019.

Respondents: Magnetic tape manufacturing facilities.

Respondent's obligation to respond: Mandatory (40 CFR part 63, subpart EE).

Estimated number of respondents: 6 (total).

Frequency of response: Initially, quarterly, and semiannually.

Estimated annual burden: 3,910 hours.

Estimated annual cost: $451,000, includes $47,000 annualized capital or O&M costs.

Changes in estimates: There is no change in burden from the previous ICR.

(72) Docket ID Number: EPA-HQ-OECA-2012-0678; Title: NESHAP for Mineral Wool Production (40 CFR part 63, subpart DDD) (Renewal); EPA ICR Number 1799.10; OMB Control Number 2060-0362; Expiration Date: September 30, 2019.

Respondents: Mineral wool production facilities with cupolas and/or curing ovens.

Respondent's obligation to respond: Mandatory (40 CFR part 63, subpart DDD).

Estimated number of respondents: 8 (total).

Frequency of response: Initially, occasionally, and semiannually.

Estimated annual burden: 2,130 hours.

Estimated annual cost: $285,000, includes $6,000 annualized capital or O&M costs.

Changes in estimates: There is no change in burden from the previous ICR.

(73) Docket ID Number: EPA-HQ-OECA-2012-0669; Title: NESHAP for Oil and Natural Gas Production (40 CFR part 63, subpart HH) (Renewal); EPA ICR Number 1788.12; OMB Control Number 2060-0417; Expiration Date: September 30, 2019.

Respondents: Oil and natural gas production facilities.

Respondent's obligation to respond: Mandatory (40 CFR part 63, subpart HH).

Estimated number of respondents: 4,242 (total).

Frequency of response: Initially, occasionally, and semiannually.

Estimated annual burden: 52,500 hours.

Estimated annual cost: $6,420,000, includes $1,010,000 annualized capital or O&M costs.

Changes in estimates: There is a projected increase in burden due to an increase in the number of sources subject to the regulation.

Dated: May 8, 2018.
Martha Segall,
Acting Director, Monitoring, Assistance and Media Programs Division, Office of Compliance.

[FR Doc. 2018-11583 Filed 5-29-18; 8:45 am]

BILLING CODE 6560-50-P